DEPARTMENT OF COMMERCE

Bureau of the Census

[Docket Number (201123-0314)]

2022 Economic Census

AGENCY: Bureau of the Census, Commerce.

ACTION: Notice of determination and request for comment.

SUMMARY: The Bureau of the Census (U.S. Census Bureau) publishes this notice to announce that it is planning to conduct the 2022 Economic Census. The Census Bureau also is requesting public comment on the 2022 Economic Census content. This collection will be fully electronic using a secure encrypted internet data collection system called Centurion. The Economic Census is conducted at 5-year intervals (years ending in 2 and 7) and is the most comprehensive compilation of statistics about U.S. businesses and the economy.

DATES: Written comments must be submitted on or before February 12, 2021 to ensure consideration of your comments on the 2022 Economic Census content.

ADDRESSES: Please direct all written comments regarding the 2022 Economic Census to Kimberly Moore, Chief, Economy-Wide Statistics Division, U.S. Census Bureau, 4600 Silver Hill Road, Washington, DC 20233-7400 or via email to econ.content@census.gov.

FOR FURTHER INFORMATION CONTACT: Kimberly Moore, Chief, Economy-Wide Statistics Division, U.S. Census Bureau by phone (301) 763-7643, or by email at kimberly.p.moore@census.gov, or at econ.content@census.gov.

SUPPLEMENTARY INFORMATION:

A. Background

The granting of specific authority to conduct the program is found in Title 13, United States Code (U.S.C.), Section 131, which authorizes and requires the Economic Census. Section 131 of Title 13 U.S.C. directs the Secretary [of Commerce] to “. . .take, compile, and publish censuses of manufactures, of mineral industries, and of other businesses, including the distributive trades, service establishments, and transportation” every five years.

This notice announces that the Census Bureau is preparing to conduct the 2022 Economic Census. The Census Bureau will begin the mailout for electronic collection for the 2022 Economic Census in the Fall of 2022, and responses will be due by mid-March 2023. The Economic Census is the U.S. Government's official 5-year measure of American business and the economy, and has been taken periodically since 1810. The Economic Census is the most comprehensive source of information about American businesses from the national to the local level. Economic Census data products provide uniquely detailed basic measures that are summarized by North American Industry Classification System (NAICS) industry for the U.S., states, metropolitan areas, counties, and economic places. Data include details on the product composition of industry sales, receipts, revenue, or shipments, and on a great variety of industry-specific subjects. Additionally, the Economic Census produces statistics about businesses in Puerto Rico, American Samoa, the Commonwealth of the Northern Mariana Islands, Guam, and the U.S. Virgin Islands, and it provides data on selected special-interest topics, including the characteristics of business owners, domestic freight shipments, and business expenses. Published data cover close to 1,000 types of businesses, approximately 8,000 goods and services, every state and territory, the District of Columbia, over 3,000 counties and 15,000 cities and towns. (Geographic levels shown vary by NAICS sector.)

The Economic Census is the most comprehensive measure of the U.S. economy, providing industry and market statistics at the national, state, and local levels. It provides information on business locations, the workforce, and trillions of dollars of sales by product and service type. Information is generated for almost one thousand different industries and over 20 thousand geographic areas. Economic Census data serve as the foundation for the gross domestic product (GDP) and other leading economic indicators for the nation. The Economic Census supplies weights and benchmarks for indexes of industrial production, productivity, and prices; and provides benchmarks for other Federal statistical series. Businesses, government, policymakers, academic researchers, trade associations, economic planning and development agencies, and the American public use Economic Census statistics. In addition, the Economic Census serves as one of the primary mechanisms for updating the Census Bureau's database of all known employer business establishments. This database, known as the Business Register, serves as the source of the sampling frame and samples for many of the current business surveys conducted by the Census Bureau. The Economic Census provides updates to the industry classification, ownership, location, employment, and payroll of business establishments listed on the Business Register.

The 2022 Economic Census will be the second to be conducted completely by electronic collection through the internet. The electronic instrument, Centurion, provides improved quality with automatic data checks, and is context-sensitive to assist the data provider in identifying potential reporting problems before submission, thus reducing the need for follow-up. Centurion is internet-based, eliminating the need for downloading software and increasing the integrity and confidentiality of the data. The Census Bureau will furnish usernames and passwords for Centurion to the organizations included in the survey, and an image of Centurion will be available on the 2022 Economic Census website once the Economic Census has launched.

B. Economic Census Content

The Census Bureau posted copies of the 2017 Economic Census forms on its website at: https://bhs.econ.census.gov/ombpdfs/. Please take a moment to review the forms relevant to your interests and provide us with your comments for consideration as we prepare content for the 2022 questionnaires. We are particularly interested in comments on the usefulness of existing questions for continued inclusion and in suggestions for new measures that would be appropriate to include in the Economic Census.

Notwithstanding any other provision of law, no person is required to respond to, nor shall a person be subject to a penalty for failure to comply with a collection of information subject to the requirements of the Paperwork Reduction Act (PRA) unless that collection of information displays a current valid Office of Management and Budget (OMB) control number. The Census Bureau, through the proper established procedures, will be obtaining an OMB control number under the PRA as we get closer to launching the program in 2022.

Steven D. Dillingham, Director, Bureau of the Census, approved the publication of this Notice in the Federal Register.

Dated: December 8, 2020.
Sheleen Dumas,
Department PRA Clearance Officer, Office of the Chief Information Officer, Commerce Department.

[FR Doc. 2020-27403 Filed 12-11-20; 8:45 am]

BILLING CODE 3510-07-P